DEPARTMENT OF LABOR

Occupational Safety and Health Administration

29 CFR Part 1910

[Docket No. OSHA-2013-0002]

RIN 1218-AB80

Walking-Working Surfaces and Personal Protective Equipment (Fall Protection Systems) for General Industry; Approval of Collections of Information

AGENCY: Occupational Safety and Health Administration (OSHA), Department of Labor.

ACTION: Final rule.

SUMMARY: This technical amendment revises an OSHA regulation to reflect the Office of Management and Budget's (OMB) approval of the collections of information contained in the general industry Walking-Working Surfaces and Personal Protective Equipment (Fall Protection Systems) standards.

DATES: Effective July 6, 2017.

FOR FURTHER INFORMATION CONTACT: Todd Owen, OSHA, Directorate of Standards and Guidance, Room N-3609, U.S. Department of Labor, 200 Constitution Avenue NW., Washington, DC 20210; telephone (202) 693-2222.

SUPPLEMENTARY INFORMATION: On November 18, 2016, OSHA published a final rule revising and updating the general industry Walking-Working Surfaces and Personal Protective Equipment (Fall Protection Systems) standards (29 CFR 1910, subparts D and I) (81 FR 82494) to provide workers with greater protections from slip, trip and fall hazards. This technical amendment adds to § 1910.8, which displays OSHA's approved general industry collections of information under the Paperwork Reduction Act of 1985 (44 U.S.C. 3501 et seq.), the OMB control number for the new collection requirements in the final rule.

Final subpart D contains three new collections of information. First, final § 1910.23(b)(10) requires that employers ensure any ladder with structural or other defects be tagged immediately with “Dangerous: Do Not Use” or similar language and removed from service until “repaired . . . or replaced.” The information will alert employers and workers that the ladder is not safe and must not be used.

Second, final § 1910.27(b)(1)(i) requires, before any rope descent system is used, that the building owner inform the employer in writing that the building owner has identified, tested, certified, and maintained each anchorage so it is capable of supporting at least 5,000 pounds (268 kg), in any direction for each employee attached. The information must be based on an annual inspection by a qualified person and certification of each anchorage by a qualified person, as necessary, and at least every 10 years. The information will assure employers and workers that the building owner has inspected, tested and certified the anchorage, which the employer may not own or have any control over, as safe to use. A related provision, final § 1910.27(b)(1)(ii), requires that the employer ensure no employee uses any anchorage before the employer has obtained written information from the building owner indicating that each anchorage meets the requirements of § 1910.27(b)(1)(i). The employer must keep the information for the duration of the job. The information will assure employers and workers that the anchorages employers use, but may not own or have any control over, are safe to use.

Third, final § 1910.28(b)(1)(ii) specifies that when employers can demonstrate that it is not feasible or creates a greater hazard to use guardrail, safety net, or personal fall protection systems on residential roofs, they must develop and implement a written fall protection plan that meets the requirements of 29 CFR 1926.502(k) and training that meets the requirements of 29 CFR 1926.503(a) and (c). The information collection ensures that employers and workers will know what alternative measures will be used at a given worksite to provide an appropriate level of protection when conventional fall protection is not feasible.

These requirements are contained in the Information Collection Request (ICR) approved by OMB under control number 1218-0199, which OSHA included in the final rule published in the Federal Register (81 FR 82978-80). The collections of information in final subpart D are necessary to ensure workers are protected from death or injury from falls from elevated heights.

Final subpart I expands the existing collections of information contained in the hazard assessment and verification requirements in 29 CFR 1910.132 to include assessments for workers who use personal fall protection systems (29 CFR 1910.140). These requirements are contained in the Information Collection Request (ICR) approved by OMB under control number 1218-0205, which OSHA included in the final rule published in the Federal Register (81 FR 82978-80).

Additional public comment on the information collections in the final rule is not necessary. The public already has had the opportunity to comment on the collections of information and OMB has approved them. This revision of § 1910.8 is a purely technical step to increase public awareness of OMB's approval of the collections of information.

Authority and Signature

Dorothy Dougherty, Deputy Assistant Secretary of Labor for Occupational Safety and Health, directed the preparation of this notice under the authority of the Paperwork Reduction Act of 1995 (44 U.S.C. 3506 et seq.) and Secretary of Labor's Order No. 1-2012 (77 FR 3912).

Signed at Washington, DC, on June 28, 2017.
Dorothy Dougherty,
Deputy Assistant Secretary of Labor for Occupational Safety and Health.

For the reasons stated in the preamble, the Occupational Safety and Health Administration amends 29 CFR part 1910 as follows:

PART 1910—OCCUPATIONAL SAFETY AND HEALTH STANDARDS

Subpart A—[Amended]

1. Revise the authority citation for subpart A to read as follows:

Authority: 29 U.S.C. 653, 655, 657; Secretary of Labor's Order Numbers 12-71 (36 FR 8754), 8-76 (41 FR 25059), 9-83 (48 FR 35736),1-90 (55 FR 9033), 6-96 (62 FR 111), 3-2000 (65 FR 50017), 5-2002 (67 FR 65008), 5-2007 (72 FR 31159), 4-2010 (75 FR 55355), or 1-2012 (77 FR 3912), as applicable.

Sections 1910.6, 1910.7, 1910.8 and 1910.9 also issued under 29 CFR 1911. Section 1910.7(f) also issued under 31 U.S.C. 9701; 29 U.S.C. 9a; 5 U.S.C. 553; Public Law 106-113 (113 Stat. 1501A-222); Public Law 11-8 and 111-317; and OMB Circular A-25 (dated July 8, 1993) (58 FR 38142, July 15, 1993).

2. Amend § 1910.8 by adding to the table, in the proper numerical sequence, the entries for “1910.27,” and “1910.28,” to read as follows:

§ 1910.8 OMB control numbers under the Paperwork Reduction Act.

* * * * *

29 CFR citation | OMB control No.
| * * * * *
1910.27 | 1218-0199
1910.28 | 1218-0199
| * * * * *

[FR Doc. 2017-14122 Filed 7-5-17; 8:45 am]

BILLING CODE 4510-26-P